DEPARTMENT OF AGRICULTURE

Office of the Secretary

Request for Applications for Appointment to the National Agricultural Research, Extension, Education, and Economics (NAREEE) Advisory Board's Pollinator Subcommittee

AGENCY: Research, Education, and Economics, Office of the Chief Scientist, Office of the Secretary, USDA.

ACTION: Request for applications for appointment.

SUMMARY: The Office of the Chief Scientist, NAREEE Advisory Board Office requests that qualified individuals interested in serving on the Pollinator Subcommittee apply for appointment.

DATES: The NAREEE Advisory Board Office will accept applications until 5 p.m. Eastern Time on May 31, 2022.

ADDRESSES: Please submit application packages via email to nareee@usda.gov. Save all materials in one file using the naming convention, “Last Name_First Name_Pollinator Subcommittee Application” and attach to the email. The NAREEE Advisory Board Office will send you an email that confirms receipt of your application and will notify you of the final status of your application once the Secretary of Agriculture selects the new members.

FOR FURTHER INFORMATION CONTACT: Kate Lewis, Executive Director/Designated Federal Official, or Shirley Morgan-Jordan, Program Support Coordinator, National Agricultural Research, Extension, Education, and Economics Advisory Board; (202) 380-5373 or email: nareee@usda.gov.

SUPPLEMENTARY INFORMATION: This Subcommittee will be known as the USDA National Pollinator Subcommittee; hereafter referred to as the Pollinator Subcommittee of the National Agricultural Research, Extension Education, and Economics (NAREEE) Advisory Board, which is implemented by the Research, Education, and Economics (REE) Mission Area. Most recently, the NAREEE Board was amended and extended through September 30, 2023 by the Agricultural Improvement Act of 2018. This amended charter is consistent with 7 U.S.C. 3123, as amended, and is in accordance with the provisions of the Federal Advisory Committee Act (FACA), as amended, 5 U.S.C. App. 2. Further, USDA is charged by the 2018 Farm Bill, Title 10, Section 1672, Subsection 4, to identify annual strategic pollinator priorities and goals for the Department in the context of specific research mandates. USDA recommends the Pollinator Subcommittee be initiated in 2022 as the newest subcommittee of the NAREEE Advisory Board. The subcommittee is advisory in nature, and members will be asked to make pollinator health-related recommendations, reviews, and consultation to the NAREEE Advisory Board and subsequently to REE, other USDA mission areas, and federal pollinator coordinators. The NAREEE Advisory Board Office is requesting that individuals who are interested in and qualified to serve on the Pollinator Subcommittee apply for appointment. Please visit https://nareeeab.ree.usda.gov/nominations for additional information on vacant positions.

Candidates selected to the Pollinator Subcommittee may serve 1-3 years with terms anticipated to start in July 2022 (based on Secretarial action). The NAREEE Advisory Board requires a formal application, and each electronic package MUST include the following:

• AD-755 Form (accessed from this link)—the NAREEE Advisory Board Office will not consider applications submitted with incomplete AD-755 forms.

• A summary of the most important accomplishments that qualify you to serve on the Pollinator Subcommittee, in the form of five to seven (5-7) bullets in fewer than 125 words total;

• Resume or Curriculum Vitae (CV); and

• Optional: One to two (1-2) letters of recommendation addressed to the NAREEE Advisory Board Office are helpful, but not mandatory for consideration.

Your application package must comprise 25 pages or fewer to be considered by the NAREEE Advisory Board Office. Information contained in your application package should clearly indicate your qualifications to serve on the Pollinator Subcommittee. The NAREEE Advisory Board Office will review the information contained in the application packages to send to the Secretary of Agriculture. The Secretary of Agriculture will make selections based on candidates who will: (1) Work collaboratively in representing diverse USDA pollinator stakeholders and areas of study; (2) provide sound and informed scientific input on pollinator research priorities; and (3) produce and utilize accurate, scientifically informed input on the best available science pertaining to various aspects of pollinator health.

The Pollinator Subcommittee will formally meet (i.e., public meeting) once per year by video conference and/or in person. The NAREEE Advisory Board does not pay Pollinator Subcommittee members for their time but may reimburse travel expenses such as airfare (USDA must book your flight), per diem to include hotel stays, and other transportation costs within federal travel guidelines when approved by the Designated Federal Officer.

USDA does not discriminate on the basis of race, color, religion, sex, national origin, sexual orientation, gender identity, marital status, political affiliation, disability and genetic information, age, membership in an employee organization, or other non-merit factor. USDA strives to achieve a widely diverse candidate pool for its recruitment for all Board and committee/subcommittee appointments. Federal Registered lobbyists and non-government contractors supporting pollinator policies or programmatic activities at USDA may not apply to be on the Pollinator Subcommittee. Entities that currently have cooperative agreements, grants, or other types of agreements for the purposes of research, education, and/or extension may apply.

Visit https://nareeeab.ree.usda.gov/nominations for additional information on vacant positions, application materials and submittal instructions. Any questions regarding member eligibility may be directed to nareee@usda.gov. Indicate “Pollinator Subcommittee Eligibility” in the email's subject line.

Candidates will be vetted by the White House Liaison Office prior to selection.

Dated: March 30, 2022.
Cikena Reid,
USDA Committee Management Officer.

[FR Doc. 2022-07073 Filed 4-4-22; 8:45 am]

BILLING CODE 3410-03-P